DEPARTMENT OF TRANSPORTATION

Coast Guard

46 CFR Parts 1, 2, 4, 8, 9, 10, 12, 25, 26, 28, 30, 31, 32, 34, 35, 39, 42, 44, 50, 54, 56, 58, 62, 70, 76, 78, 90, 91, 95, 97, 105, 107, 108, 109, 110, 111, 114, 116, 118, 119, 121, 125, 128, 133, 151, 153, 154, 160, 161, 163, 167, 169, 170, 174, 175, 181, 182, 184, 188, 189, 193, and 199

[USCG-2000-7790]

Technical Amendments; Organizational Changes; Miscellaneous Editorial Changes and Conforming Amendments

AGENCY: Coast Guard, DOT.

ACTION: Final rule.

SUMMARY: This rule makes editorial and technical changes throughout title 46 of the Code of Federal Regulations (CFR) to update the title before it is recodified on October 1, 2000. It corrects addresses, updates cross-references, makes conforming amendments, and makes other technical corrections. This rule will have no substantive effect on the regulated public.

DATES: This final rule is effective September 30, 2000.

ADDRESSES: Documents as indicated in this preamble are available for inspection or copying at the Docket Management Facility [USCG-2000-7790], U.S. Department of Transportation, room PL-401, 400 Seventh Street SW., Washington, DC, 20590-0001, between 9 a.m. and 5 p.m., Monday through Friday, except Federal holidays. You may also find this docket on the Internet at http://dms.dot.gov.

FOR FURTHER INFORMATION CONTACT: For questions on this rule, contact Ms. Janet Walton, Project Manager, Standards Evaluation and Development Division (G-MSR-2), Coast Guard, telephone 202-267-0257. For questions on viewing, or submitting material to, the docket, contact Dorothy Beard, Chief, Dockets, Department of Transportation, telephone 202-366-9329.

SUPPLEMENTARY INFORMATION:

Discussion of the Rule

Each year Title 46 of the Code of Federal Regulations is recodified on October 1. This rule makes editorial changes throughout the title, corrects addresses, updates cross-references, and makes other technical and editorial corrections to be included in the recodification. Some editorial changes are discussed individually in the following paragraphs. This rule does not change any substantive requirements of existing regulations.

We did not publish a notice of proposed rulemaking (NPRM) for this regulation. Under 5 U.S.C. 553(b)(B), the Coast Guard finds that good cause exists for not publishing an NPRM. This rule consists only of corrections and editorial and conforming amendments to title 46 of the Code of Federal Regulations. These changes will have no substantive effect on the public and publishing an NPRM and providing an opportunity for public comment is unnecessary. Under 5 U.S.C. 553(d)(3), the Coast Guard finds that, for the same reasons, good cause exists for making this rule effective less than 30 days after publication in the Federal Register.

Sections 25.45-2, 121.240, and 184.240

Because the posting instructions for these sections are contained in the material incorporated by reference, and not “highlighted” in the CFR, we are adding a note at the end of each section to reflect that.

Sections 30.10-22, 30.10-59, 32.20-10, 34.10-15, 35.10-3, 35.25-10, 39.20-9, 54.05-5, 54.05-20, 54.25-10, 54.25-20, 56.07-10, 56.10-5, 56.25-20, 56.30-10, 56.50-60, 56.50-105, 56.60-15, 56.60-25, 58.16-5, 58.30-15, 76.10-10, 78.17-75, 95.10-10, 97.15-55, 97.36-1, 105.10-15, 108.427, 109.563, 110.15-1, 114.400, 116.405, 116.422, 116.423, 128.310, 151.15-3, 153.365, 153.940, 160.032-3, 160.035-3, 160.055-3, 160.076-25, 160.077-11, 160.077-19, 160.151-21, 160.171-17, 160.174-17, 160.176-8, 160.176-13, 161.002-4, 170.270, 174.100, 175.400, 193.10-10, and 199.175

On December 1, 1999, the Coast Guard published a Direct Final Rule, Update of Standards from the American Society for Testing and Materials (ASTM) [USCG-1999-5151] (64 FR 67170). On March 1, 2000, we published a confirmation of effective date for the rule (65 FR 10943). That rule did not revise the CFR sections where the standard numbers did not contain a year date. We are now adding to those sections a cross-reference back to the incorporation by reference section in each part.

Sections 118.410 and 181.410

We are revising §§ 118.410 and 181.410 by changing the first sentence in paragraph (f)(4)(v), in both instances, to conform to language that currently appears in § 95.15-5(d)(7). We are removing the words “The area of each discharge outlet” and adding, in their place, the words “The total area of all discharge outlets.” This change makes the sentence technically correct and consistent with the requirements in our other subchapters.

Sections 119.422, 128.420, 128.430, 169.608, and 182.422

The Coast Guard was petitioned to remove a word combination that forms a company trademark that currently appears in these sections. We are removing the words “grid cooler” and adding in their place the words “non-integral keel cooler” where they appear.

Section 199.610

We are revising Table 199.610(c) by changing the table entry under “Oceans” at the “199.262(a): Rescue boats” line to read “(2 and 3)”. We are making this change to clarify that the conditions in both notes 2 and 3 must be met for the exemption to apply.

Regulatory Evaluation

This rule is not a significant regulatory action under section 3(f) of Executive Order 12866 and does not require an assessment of potential costs and benefits under section 6(a)(3) of that Order. It has not been reviewed by the Office of Management and Budget under that Order. It is not significant under the regulatory policies and procedures of the Department of Transportation (DOT) (44 FR 11040; February 26, 1979). We expect the economic impact of this rule to be so minimal that a full Regulatory Evaluation under paragraph 10e of the regulatory policies and procedures of DOT is unnecessary. As this rule involves internal agency practices and procedures, it will not impose any costs on the public.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

We considered the environmental impact of this rule and concluded that, under figure 2-1, paragraph (34)(a) and (b) of Commandant Instruction M16475.lC, this rule is categorically excluded from further environmental documentation. This exclusion is in accordance with paragraphs (34)(a) and (b), concerning regulations that are editorial or procedural and concerning internal agency functions or organization. A “Categorical Exclusion Determination” is available in the docket where indicated under ADDRESSES.

List of Subjects

46 CFR Part 1

Administrative practice and procedure, Organization and functions (Government agencies), Reporting and recordkeeping requirements.

46 CFR Part 2

Marine safety, Reporting and recordkeeping requirements, Vessels.

46 CFR Part 4

Administrative practice and procedure, Alcohol abuse, Drug abuse, Drug testing, Investigations, Marine safety, National Transportation Safety Board, Reporting and recordkeeping requirements, Safety, Transportation.

46 CFR Part 8

Administrative practice and procedure, Organization and functions (Government agencies), Reporting and recordkeeping requirements.

46 CFR Part 9

Government employees, Vessels, Wages.

46 CFR Part 10

Reporting and recordkeeping requirements, Schools, Seamen.

46 CFR Part 12

Reporting and recordkeeping requirements, Seamen.

46 CFR Part 25

Fire prevention, Marine safety, Reporting and recordkeeping requirements.

46 CFR Part 26

Marine safety, Penalties, Reporting and recordkeeping requirements.

46 CFR Part 28

Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 31

Cargo vessels, Marine safety, Reporting and recordkeeping requirements.

46 CFR Part 32

Cargo vessels, Fire prevention, Marine safety, Navigation (water), Occupational safety and health, Reporting and recordkeeping requirements, Seamen.

46 CFR Part 34

Cargo vessels, Fire prevention, Marine safety.

46 CFR Part 35

Cargo vessels, Marine safety, Navigation (water), Occupational safety and health, Reporting and recordkeeping requirements, Seamen.

46 CFR Part 39

Cargo vessels, Fire prevention, Hazardous materials transportation, Marine safety, Occupational safety and health, Reporting and recordkeeping requirements.

46 CFR Part 42

Penalties, Reporting and recordkeeping requirements, Vessels.

46 CFR Part 44

Reporting and recordkeeping requirements, Vessels.

46 CFR Part 50

Reporting and recordkeeping requirements, Vessels.

46 CFR Part 54

Reporting and recordkeeping requirements, Vessels.

46 CFR Part 56

Reporting and recordkeeping requirements, Vessels.

46 CFR Part 58

Reporting and recordkeeping requirements, Vessels.

46 CFR Part 62

Reporting and recordkeeping requirements, Vessels.

46 CFR Part 70

Marine safety, Passenger vessels, Reporting and recordkeeping requirements.

46 CFR Part 76

Fire prevention, Marine safety, Passenger vessels.

46 CFR Part 78

Marine safety, Navigation (water), Passenger vessels, Penalties, Reporting and recordkeeping requirements.

46 CFR Part 90

Cargo vessels, Marine safety.

46 CFR Part 91

Cargo vessels, Marine safety, Reporting and recordkeeping requirements.

46 CFR Part 95

Cargo vessels, Fire prevention, Marine safety.

46 CFR Part 97

Cargo vessels, Marine safety, Navigation (water), Reporting and recordkeeping requirements.

46 CFR Part 105

Cargo vessels, Fishing vessels, Hazardous materials transportation, Marine safety, Petroleum, Seamen.

46 CFR Part 107

Marine safety, Oil and gas exploration, Reporting and recordkeeping requirements, Vessels.

46 CFR Part 108

Fire prevention, Marine safety, Occupational safety and health, Oil and gas exploration, Vessels.

46 CFR Part 109

Marine safety, Occupational safety and health, Oil and gas exploration, Reporting and recordkeeping requirements, Vessels.

46 CFR Part 110

Reporting and recordkeeping requirements, Vessels.

46 CFR Part 111

Vessels.

46 CFR Part 114

Marine safety, Passenger vessels, Reporting and recordkeeping requirements.

46 CFR Part 116

Marine safety, Passenger vessels.

46 CFR Part 118

Fire prevention, Marine safety, Passenger vessels.

46 CFR Part 119

Marine safety, Passenger vessels.

46 CFR Part 121

Communications equipment, Marine safety, Navigation (water), Passenger vessels.

46 CFR Part 125

Administrative practice and procedure, Authority delegation, Hazardous materials transportation, Marine safety, Offshore supply vessels, Oil and gas exploration, Vessels.

46 CFR Part 128

Hazardous materials transportation, Main and auxiliary machinery, Marine safety, Offshore supply vessels, Oil and gas exploration, Vessels.

46 CFR Part 133

Marine safety, Occupational safety and health, Oil and gas exploration, Reporting and recordkeeping requirements, Vessels.

46 CFR Part 151

Cargo vessels, Hazardous materials transportation, Marine safety, Reporting and recordkeeping requirements, Water pollution control.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 160

Marine safety, Reporting and recordkeeping requirements.

46 CFR Part 161

Fire prevention, Marine safety, Reporting and recordkeeping requirements.

46 CFR Part 163

Marine safety.

46 CFR Part 167

Fire prevention, Marine safety, Reporting and recordkeeping requirements, Schools, Seamen, Vessels.

46 CFR Part 169

Fire prevention, Marine safety, Reporting and recordkeeping requirements, Schools, Vessels.

46 CFR Part 170

Marine safety, Reporting and recordkeeping requirements, Vessels.

46 CFR Part 174

Marine safety, Vessels.

46 CFR Part 175

Marine safety, Passenger vessels, Reporting and recordkeeping requirements.

46 CFR Part 181

Fire prevention, Marine safety, Passenger vessels.

46 CFR Part 182

Marine safety, Passenger vessels.

46 CFR Part 184

Communications equipment, Marine safety, Navigation (water), Passenger vessels, Reporting and recordkeeping requirements.

46 CFR Part 188

Marine safety, Oceanographic research vessels.

46 CFR Part 189

Marine safety, Oceanographic research vessels, Reporting and recordkeeping requirements.

46 CFR Part 193

Fire prevention, Marine safety, Oceanographic research vessels.

46 CFR Part 199

Cargo vessels, Marine safety, Oil and gas exploration, Passenger vessels, Reporting and recordkeeping requirements, Vessels.

For the reasons set out in the preamble, the Coast Guard amends 46 CFR parts 1, 2, 4, 8, 9, 10, 12, 25, 26, 28, 30, 31, 32, 34, 35, 39, 42, 44, 50, 54, 56, 58, 62, 70, 76, 78, 90, 91, 95, 97, 105, 107, 108, 109, 110, 111, 114, 116, 118, 119, 121, 125, 128, 133, 151, 153, 154, 160, 161, 163, 167, 169, 170, 174, 175, 181, 182, 184, 188, 189, 193, and 199 as follows:

PART 1—ORGANIZATION, GENERAL COURSE AND METHODS GOVERNING MARINE SAFETY FUNCTIONS

1. The authority citation for part 1 continues to read as follows:

Authority: 5 U.S.C. 552; 14 U.S.C. 633; 46 U.S.C. 7701; 49 CFR 1.45, 1.46; § 1.01-35 also issued under the authority of 44 U.S.C. 3507.

2. In § 1.01-10, revise paragraph (b)(1)(ii)(D) to read as follows:

§ 1.01-10 Organization.

* * * * *

(b) * * *

(1) * * *

(ii) * * *

(D) The Commanding Officer, Coast Guard National Maritime Center (NMC) under technical control of the Assistant Commandant for Marine Safety and Environmental Protection, administers operational and administrative control of the Marine Safety Center which conducts reviews and approvals of plans, calculations, and other materials concerning the design, construction, alterations, and repair of commercial vessels to determine conformance with the marine inspection laws, regulations, and implementing directions, and administers the U.S. Tonnage Measurement program; administers operational and administrational control over the National Vessel Documentation Center which administers U.S. vessel identification and documentation; administers merchant mariner licensing and seaman's documentation; and oversees the national pilotage program.

* * * * *

§ 1.01-15 [Amended]

3. In § 1.01-15, in the Note following paragraph (b), remove the words “Long Beach, CA” and add, in their place, the words “San Pedro, CA”.

3a. In § 1.03-15, revise paragraph (h)(3) to read as follows:

§ 1.03-15 General.

* * * * *

(h) * * *

(3) Commanding Officer, National Maritime Center, for appeals involving vessel documentation issues, marine personnel issues, including medical waivers, and suspension or withdrawal of course approvals; or

* * * * *

PART 2—VESSEL INSPECTIONS

4. Revise the authority citation for part 2 to read as follows:

Authority: 33 U.S.C. 1903; 43 U.S.C. 1333; 46 U.S.C. 3103, 3205, 3306, 3307, 3703; E.O. 12234, 45 FR 58801, 3 CFR, 1980 Comp., p. 277; 49 CFR 1.46; subpart 2.45 also issued under the authority of Act Dec. 27, 1950, Ch. 1155, secs. 1, 2, 64 Stat. 1120 (see 46 U.S.C. App. note prec. 1).

§ 2.01-60 [Amended]

5. In § 2.01-60(a), remove the words “, shipping commissioners and their deputies and assistants”.

PART 4—MARINE CASUALTIES AND INVESTIGATIONS

6. The authority citation for part 4 continues to read as follows:

Authority: 33 U.S.C. 1231; 43 U.S.C. 1333; 46 U.S.C. 2103, 2306, 6101, 6301, 6305; 50 U.S.C. 198; 49 CFR 1.46. Authority for subpart 4.40: 49 U.S.C. 1903(a)(1)(E); 49 CFR 1.46.

§ 4.01-3 [Amended]

7. In § 4.01-3, in paragraph (b) remove the words “§ 4.05-1(d) or § 4.05-1(e)” and add, in their place, the words “§ 4.05-1(a)(5) or § 4.05-1(a)(6)”; and in paragraph (c), remove the words “§ 4.05.1(d) and (e)” and add, in their place, the words “§ 4.05-1(a)(5) and (a)(6)”.

PART 8—VESSEL INSPECTION ALTERNATIVES

8. The authority citation for part 8 continues to read as follows:

Authority: 46 U.S.C. 3103, 3306, 3316, 3703; 49 CFR 1.46.

9. In § 8.110(b), in the entry for American Bureau of Shipping, revise the heading and address for “American Bureau of Shipping (ABS)” to read as follows:

§ 8.110 Incorporation by reference.

* * * * *

(b) * * *

American Bureau of Shipping (ABS)—ABS Plaza, 16855 Northchase Drive, Houston, TX 77060.

* * * * *

PART 9—EXTRA COMPENSATION FOR OVERTIME SERVICES

10. The authority citation for part 9 continues to read as follows:

Authority: 46 U.S.C. 2103; 49 CFR 1.46.

§ 9.1 [Amended]

11. In § 9.1, remove the words “United States shipping commissioners and their deputies and assistants”.

PART 10—LICENSING OF MARITIME PERSONNEL

12. The authority citation for part 10 continues to read as follows:

Authority: 14 U.S.C. 633; 31 U.S.C. 9701; 46 U.S.C. 2101, 2103, and 2110; 46 U.S.C. Chapter 71; 46 U.S.C. 7502, 7505, 7701; 49 CFR 1.45 and 1.46. Sec. 10.107 is also issued under the authority of 44 U.S.C. 3507.

§ 10.105 [Amended]

13. In § 10.105, remove the words “Long Beach, CA” and add, in their place, the words “San Pedro, CA”.

§§ 10.429, 10.456, and 10.467 [Amended]

14. In addition to the amendments set forth above, in 46 CFR part 10, remove the number “10.201(h)” and add, in its place, the number “10.205(h)” in the following sections:

(a) Section 10.429(b);

(b) Section 10.456(d); and

(c) Section 10.467(g)(4).

PART 12—CERTIFICATION OF SEAMEN

15. The authority citation for part 12 continues to read as follows:

Authority: 31 U.S.C. 9701; 46 U.S.C. 2101, 2103, 2110, 7301, 7302, 7503, 7505, 7701; 49 CFR 1.46.

§ 12.01-7 [Amended]

16. In § 12.01-7, remove the words “Long Beach, CA” and add, in their place, the words “San Pedro, CA”.

§ 12.15-3 [Amended]

17. In § 12.15-3(d) introductory text, remove the word “basis” and add, in its place, the word “basic”.

PART 25—REQUIREMENTS

18. The authority citation for part 25 continues to read as follows:

Authority: 33 U.S.C. 1903(b); 46 U.S.C. 3306, 4302; 49 CFR 1.46.

19. In § 25.45-2, add a note at the end of the section to read as follows:

§ 25.45-2 Cooking systems on vessels carrying passengers for hire.

* * * * *

Note to § 25.45-2: The ABYC and NFPA standards referenced in this section require the posting of placards containing safety precautions for gas cooking systems.

PART 26—OPERATIONS

20. Revise the authority citation for part 26 to read as follows:

Authority: 46 U.S.C. 3306, 4104, 6101, 8105; E.O. 12234, 45 FR 58801, 3 CFR, 1980 Comp., p. 277; 49 CFR 1.46.

PART 28—REQUIREMENTS FOR COMMERCIAL FISHING INDUSTRY VESSELS

21. The authority citation for part 28 continues to read as follows:

Authority: 46 U.S.C. 3316, 4502, 4505, 4506, 6104, 10603; 49 CFR 1.46.

§ 28.110 [Amended]

22. In § 28.110(b), in Table 28.110-

(a) Remove footnote number “1”, and renumber footnote number “2” as footnote number “1”;

(b) Under “Devices required”, remove the footnote number “1” wherever it appears; and

(c) Under “Devices required”, remove footnote number “2”, wherever it appears, and add, in its place, footnote number “1”.

§ 28.145 [Amended]

23. In § 28.145, in table 28.145, under “Devices required” remove the words “46 CFR” wherever they appear.

PART 30—GENERAL PROVISIONS

24. The authority citation for part 30 continues to read as follows:

Authority: 46 U.S.C. 2103, 3306, 3307, 3703; 49 U.S.C. 5103, 5106; 49 CFR 1.45, 1.46; Section 30.01-2 also issued under the authority of 44 U.S.C. 3507; Section 30.01-5 also issued under the authority of Sec. 4109, Pub. L. 101-380, 104 Stat. 515.

§ 30.10-22 [Amended]

25. In § 30.10-22, in footnote number “1”, remove the words “D-323 (most recent revision)” and add, in their place, the words “D 323 (incorporated by reference, see § 30.01-3)”.

§ 30.10-59 [Amended]

26. In § 30.10-59, remove the words “D-323 (most recent revision)” and add, in their place, the words “D 323 (incorporated by reference, see § 30.01-3)”; and remove the words “1916 Race Street, Philadelphia, PA 19103” and add, in their place, the words “100 Barr Harbor Drive, West Conshohocken, PA 19428-2959”.

PART 31—INSPECTION AND CERTIFICATION

27. The authority citation for part 31 continues to read as follows:

Authority: 33 U.S.C. 1321(j); 46 U.S.C. 2103, 3205, 3306, 3307, 3703; 49 U.S.C. 5103, 5106; E.O. 12234, 45 FR 58801, 3 CFR, 1980 Comp., p. 277; E.O. 12777, 56 FR 54757, 3 CFR, 1991 Comp., p. 351; 49 CFR 1.46. Section 31.10-21 also issued under the authority of Sect. 4109, Pub. L. 101-380, 104 Stat. 515.

§ 31.10-1 [Amended]

28. In § 31.10-1(b), remove the words “Two World Trade Center, 106th Floor, New York, NY 10048” and add, in their place, the words “ABS Plaza, 16855 Northchase Drive, Houston, TX 77060”.

§ 31.10-5 [Amended]

29. In § 31.10-5(a) introductory text, in the first sentence, remove the word “Headquarters” and add, in its place, the words “the Marine Safety Center, 400 7th Street, SW., Washington, DC 20590-0001”; and at the end of the second sentence and in the third sentence, remove the word “Headquarters” and add, in its place, in each case, the words “the Marine Safety Center”.

§ 31.40-45 [Amended]

30. In § 31.40-45(a), remove the words “Two World Trade Center, 106th Floor, New York, NY 10048” and add, in their place, the words “ABS Plaza, 16855 Northchase Drive, Houston, TX 77060”.

PART 32—SPECIAL EQUIPMENT, MACHINERY, AND HULL REQUIREMENTS

31. The authority citation for part 32 continues to read as follows:

Authority: 46 U.S.C. 2103, 3306, 3703, 3719; E.O. 12234, 45 FR 58801, 3 CFR, 1980 Comp., p. 277; 49 CFR 1.46; Subpart 32.59 also issued under the authority of Sec. 4109, Pub. L. 101-380, 104 Stat. 515.

32. In § 32.01-1(b), in the entry for American Bureau of Shipping, revise the heading and address for “American Bureau of Shipping (ABS)” to read as follows:

§ 32.01-1 Incorporation by reference.

* * * * *

(b) * * *

American Bureau of Shipping (ABS), ABS Plaza, 16855 Northchase Drive, Houston, TX 77060

* * * * *

§ 32.20-10 [Amended]

33. In § 32.20-10, remove the words “ASTM F-1273” and add, in their place, the words “ASTM F 1273 (incorporated by reference, see § 32.01-1)”.

PART 34—FIREFIGHTING EQUIPMENT

34. The authority citation for part 34 continues to read as follows:

Authority: 46 U.S.C. 3306, 3703; E.O. 12234, 45 FR 58801, 3 CFR, 1980 Comp., p. 277; 49 CFR 1.46.

§ 34.10-15 [Amended]

35. In § 34.10-15(d), remove the words “ASTM F-1121” and add, in their place, the words “ASTM F 1121 (incorporated by reference, see § 34.01-15)”.

PART 35—OPERATIONS

36. The authority citation for part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; 49 CFR 1.46.

§ 35.10-3 [Amended]

37. In § 35.10-3(a), add the words “(incorporated by reference, see § 35.01-3)” at the end of the last sentence.

§ 35.25-10 [Amended]

38. In § 35.25-10, in paragraph (a), add the words “(incorporated by reference, see § 35-01-3)” at the end of the sentence; and in paragraph (b), add the words “(incorporated by reference, see § 35-01-3)” immediately preceding the words “for which it is certified by the producer”.

PART 39—VAPOR CONTROL SYSTEMS

39. The authority citation for part 39 continues to read as follows:

Authority: 33 U.S.C. 1231; 46 U.S.C. 3306, 3703, 3715(b); 45 FR 58801, 3 CFR, 1980 Comp., p. 277; 49 CFR 1.46.

§ 39.20-9 [Amended]

40. In § 39.20-9(c)(1), remove the words “ASTM F1271” and add, in their place, the words “ASTM F 1271 (incorporated by reference, see § 39.10-5)”.

PART 42—DOMESTIC AND FOREIGN VOYAGES BY SEA

41. The authority citation for part 42 continues to read as follows:

Authority: 46 U.S.C. 5101-5116; 49 CFR 1.46; section 42.01-5 also issued under the authority of 44 U.S.C. 3507.

§ 42.07-35 [Amended]

42. In § 42.07-35(a), remove the words “Two World Trade Center, 106th Floor, New York, NY 10048” and add, in their place, the words “ABS Plaza, 16855 Northchase Drive, Houston, TX 77060”.

§ 42.11-5 [Amended]

43. In § 42.11-5(a), remove the words “Two World Trade Center, 106th Floor, New York, NY 10048” and add, in their place, the words “ABS Plaza, 16855 Northchase Drive, Houston, TX 77060”.

PART 44—SPECIAL SERVICE LIMITED DOMESTIC VOYAGES

44. The authority citation for part 44 continues to read as follows:

Authority: 46 U.S.C. 5101-5116; 49 CFR 1.46.

§ 44.320 [Amended]

45. In § 44.320(b), remove the words “Two World Trade Center, 106th Floor, New York, NY 10048” and add, in their place, the words “ABS Plaza, 16855 Northchase Drive, Houston, TX 77060”.

PART 50—GENERAL PROVISIONS

46. The authority citation for part 50 continues to read as follows:

Authority: 43 U.S.C. 1333; 46 U.S.C. 3306, 3703; E.O. 12234, 45 FR 58801, 3 CFR, 1980 Comp., p. 277; 49 CFR 1.45, 1.46; Section 50.01-20 also issued under the authority of 44 U.S.C. 3507.

§ 50.05-1 [Amended]

47. In § 50.05-1(a), remove the number “§ 50.01-1” and add, in its place, the number “§ 50.01-10”.

48. In § 50.10-30(c)(2), revise Table 50.10-30 to read as follows:

§ 50.10-30 Coast Guard number.

* * * * *

(c) * * *

(2) * * *

Table 50.10-30—Marine Safety Office Identification Letters in Coast Guard Numbers for Boilers and Pressure Vessels
Identification | Marine Safety Office
ALB | Albany.
ANC | Anchorage.
BAL | Baltimore.
BOS | Boston.
BUF | Buffalo.
CHA | Charleston.
CHI | Chicago.
CIN | Cincinnati.
CLE | Cleveland.
COR | Corpus Christi.
DET | Detroit.
DUL | Duluth.
GAL | Galveston.
GUA | Guam.
HON | Honolulu.
HOU | Houston.
HRV | Hampton Roads, VA.
HUN | Huntington.
JAC | Jacksonville.
JUN | Juneau.
LIS | Long Island.
LOS | Los Angeles.
LOU | Louisville.
MEM | Memphis.
MIA | Miami.
MIL | Milwaukee.
MIN | Minneapolis.
MOB | Mobile.
MOR | Morgan City.
NAS | Nashville.
NEW | New Orleans.
NYC | New York.
PAD | Paducah.
PAT | Port Arthur.
PHI | Philadelphia.
PIT | Pittsburgh.
POM | Portland, ME.
POR | Portland, OR.
PRO | Providence.
ROT | Rotterdam.
SAV | Savannah.
SDC | San Diego.
SEA | Seattle.
SFC | San Francisco.
SIM | Saint Ignace.
SJP | San Juan.
SLM | St. Louis.
STB | Sturgeon Bay.
TAM | Tampa.
TOL | Toledo.
VAL | Valdez.
WNC | Wilmington, NC.

PART 54—PRESSURE VESSELS

49. The authority citation for part 54 continues to read as follows:

Authority: 33 U.S.C. 1509; 43 U.S.C. 1333; 46 U.S.C. 3306, 3703; E.O. 12234, 45 FR 58801, 3 CFR, 1980 Comp., p. 277; 49 CFR 1.46.

§ 54.01-5 [Amended]

50. In § 54.01-5(d)(2), remove the number “§ 54.01.01-35” and add, in its place, the number “§ 54.01-35”; and, in Table 54.01-5(B), remove footnote number 8 from the heading.

§ 54.05-5 [Amended]

51. In § 54.05-5, in paragraph (a), remove the number “E-23” and add, in its place, the words “E 23 (incorporated by reference, see § 54.01-1)”; and in paragraphs (b) and (c)(2), remove the number “E-208” and add in its place, the words “E 208 (incorporated by reference, see § 54.01-1)”.

§ 54.05-20 [Amended]

52. In § 54.05-20(b), remove the words “ASTM A-203” and add, in their place, the words “ASTM A 203 (incorporated by reference, see § 54.01-1)”.

§ 54.25-10 [Amended]

53. In § 54.25-10(b)(1)(i), remove the words “ASTM A-20” and add, in their place, the words “ASTM A 20 (incorporated by reference, see § 54.01-1)”.

§ 54.25-20 [Amended]

54. In § 54.25-20(b), remove the words “ASTM A-370” and add, in their place, the words “ASTM A 370 (incorporated by reference, see § 54.01-1)”.

§ 54.30-3 [Amended]

55. In § 54.30-3(c), remove the number “§ 54.20-10” and add, in its place, the number “§ 54.25-8”.

PART 56—PIPING SYSTEMS AND APPURTENANCES

56. The authority citation for part 56 continues to read as follows:

Authority: 33 U.S.C. 1321(j), 1509; 43 U.S.C. 1333; 46 U.S.C. 3306, 3703; E.O. 12234, 45 FR 58801, 3 CFR, 1980 Comp., p. 277; E.O. 12777, 56 FR 54757, 3 CFR, 1991 Comp., p. 351; 49 CFR 1.46.

§ 56.10-5 [Amended]

57. In § 56.10-5(b), remove the word “A53” and add, in its place, the words “A 53 (incorporated by reference, see § 56.01-2)”.

§ 56.25-20 [Amended]

58. In § 56.25-20(b), remove the word “A307” and add, in its place, the words “A 307 (incorporated by reference, see § 56.01-2)”.

§ 56.30-10 [Amended]

59. In § 56.30-10(b)(5), remove the word “A36” and add, in its place, the words “A 36 (incorporated by reference, see § 56.01-2)”.

§ 56.30-25 [Amended]

60. In § 56.30-25(e), remove the number “§ 56.60-75” and add, in its place, the number “§ 56.50-75”.

§ 56.50-60 [Amended]

61. In § 56.50-60(d)(2), remove the words “ASTM A395” and add, in their place, the words “ASTM A 395 (incorporated by reference, see § 56.01-2)”.

§ 56.50-105 [Amended]

62. In § 56.50-105(a)(1)(ii), remove the words “ASTM E-23” and add, in their place, the words “ASTM E 23 (incorporated by reference, see § 56.01-2)”; and in Table 56.60-105, in footnote 3, remove the word “(G-MTH)” and add, in its place, the word “(G-MSE)”.

§ 56.60-15 [Amended]

63. In § 56.60-15(a) and (b), remove the words “ASTM A395” and add, in their place, the words “ASTM A 395 (incorporated by reference, see § 56.01-2)”.

§ 56.95-10 [Amended]

64. In § 56.95-10(a)(2), remove the word “or” and add, in its place, the word “of”.

PART 58—MAIN AND AUXILIARY MACHINERY AND RELATED SYSTEMS

65. The authority citation for part 58 continues to read as follows:

Authority: 43 U.S.C. 1333; 46 U.S.C. 3306, 3703; E.O. 12234, 45 FR 58801, 3 CFR, 1980 Comp., p. 277; 49 CFR 1.46.

66. In § 58.03-1(b), in the entry for American Bureau of Shipping, revise the heading and address for “American Bureau of Shipping (ABS)” to read as follows:

§ 58.03-1 Incorporation by reference.

* * * * *

(b) * * *

American Bureau of Shipping (ABS), ABS Plaza, 16855 Northchase Drive, Houston, TX 77060

* * * * *

§ 58.16-5 [Amended]

67. In § 58.16-5(a), remove the words ASTM D323.” and add, in their place, the words “ASTM D 323 (incorporated by reference, see § 58.03-1)”; and remove paragraph designator (a).

§ 58.30-15 [Amended]

68. In § 58.30-15(c), remove the words “ASTM A-193” and add, in their place, the words “ASTM A 193 (incorporated by reference, see § 58.03-1)”.

PART 62—VITAL SYSTEM AUTOMATION

69. The authority citation for part 62 continues to read as follows:

Authority: 46 U.S.C. 3306, 3703, 8105; E.O. 12234, 45 FR 58801, 3 CFR, 1980 Comp., p. 277; 49 CFR 1.46.

§ 62.01-5 [Amended]

70. In § 62.01-5(b) introductory text, remove the number “§ 62.05-5(c)” and add, in its place, the number “§ 62.01-5(c)”.

§ 62.05-1 [Amended]

71. In § 62.05-1(b)(1), remove the words “Two World Trade Center, 106th Floor, New York, NY 10048” and add, in their place, the words “ABS Plaza, 16855 Northchase Drive, Houston, TX 77060”; and remove the paragraph designator (1).

§ 62.35-50 [Amended]

72. In § 62.35-50(a), in Table 65.35-50, in note 9, remove the word “(G-MTH)” and add, in its place, the word “(G-MSE)”; and remove the paragraph designator (a).

PART 70—GENERAL PROVISIONS

73. The authority citation for part 70 continues to read as follows:

Authority: 46 U.S.C. 3306, 3703; 49 U.S.C. 5103, 5106; E.O. 12234, 45 FR 58801, 3 CFR, 1980 Comp., p. 277; 49 CFR 1.45, 1.46; Section 70.01-15 also issued under the authority of 44 U.S.C. 3507.

§ 70.35-5 [Amended]

74. In § 70.35-5(a), remove the words “Two World Trade Center, 106th Floor, New York, NY 10048” and add, in their place, the words “ABS Plaza, 16855 Northchase Drive, Houston, TX 77060”.

PART 76—FIRE PROTECTION EQUIPMENT

75. The authority citation for part 76 continues to read as follows:

Authority: 46 U.S.C. 3306; E.O. 12234, 45 FR 58801, 3 CFR, 1980 Comp., p. 277; 49 CFR 1.46.

§ 76.10-10 [Amended]

76. In § 76.10-10(c), remove the words “ASTM F-1121” and add, in their place, the words “ASTM F 1121 (incorporated by reference, see § 76.01-2)”.

§ 76.10-90 [Amended]

77. In § 76.10-90(a)(1), remove the word “exceptf” and add, in its place, the word “except”.

PART 78—OPERATIONS

78. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; 49 CFR 1.46.

§ 78.17-75 [Amended]

79. In § 78.17-75(a), remove the word “ASTM-D93” and add, in it place, the words “ASTM D 93 (incorporated by reference, see § 78.01-2)”.

PART 90—GENERAL PROVISIONS

80. The authority citation for part 90 continues to read as follows:

Authority: 46 U.S.C. 3306, 3307, 3703; 49 U.S.C. 5103, 5106; E.O. 12234, 45 FR 58801, 3 CFR, 1980 Comp., p. 277; 49 CFR 1.46.

§ 90.35-5 [Amended]

81. In § 90.35-5(a), remove the words “Two World Trade Center, 106th Floor, New York, NY 10048” and add, in their place, the words “ABS Plaza, 16855 Northchase Drive, Houston, TX 77060”.

PART 91—INSPECTION AND CERTIFICATION

82. The authority citation for part 91 continues to read as follows:

Authority: 33 U.S.C. 1321(j); 46 U.S.C. 3205, 3306, 3307; E.O. 12234; 45 FR 58801; 3 CFR, 1980 Comp., p. 277; E.O. 12777, 56 FR 54757, 3 CFR, 1991 Comp., p. 351; 49 CFR 1.46.

§ 91.60-45 [Amended]

83. In § 91.60-45(a), remove the words “Two World Trade Center, 106th Floor, New York, NY 10048” and add, in their place, the words “ABS Plaza, 16855 Northchase Drive, Houston, TX 77060”.

PART 95—FIRE PROTECTION EQUIPMENT

84. The authority citation for part 95 continues to read as follows:

Authority: 46 U.S.C. 3306; E.O. 12234, 45 FR 58801, 3 CFR, 1980 Comp., p. 277; 49 CFR 1.46.

§ 95.10-10 [Amended]

85. In § 95.10-10(c), remove the words “ASTM F-1121” and add, in their place, the words “ASTM F 1121 (incorporated by reference, see § 95.01-2)”.

PART 97—OPERATIONS

86. The authority citation for part 97 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; 49 CFR 1.46.

§ 97.15-55 [Amended]

87. In § 97.15-55(a), remove the word “ASTM-D-93” and add, in its place, the words “ASTM D 93 (incorporated by reference, see § 97.01-2)”.

§ 97.36-1 [Amended]

88. In § 97.36-1(a), add the words “(incorporated by reference, see § 97.01-2)” at the end of the last sentence in the paragraph.

PART 105—COMMERCIAL FISHING VESSELS DISPENSING PETROLEUM PRODUCTS

89. The authority citation for part 105 continues to read as follows:

Authority: 33 U.S.C. 1321(j); 46 U.S.C. 3306, 3703, 4502; 49 U.S.C. App. 1804; E.O. 11735, 38 FR 21243, 3 CFR, 1971-1975 Comp., p. 793; 49 CFR 1.46.

§ 105.10-15 [Amended]

90. In § 105.10-15, in footnote 1, remove the word “D-323” and add, in its place, the words “D 323 (incorporated by reference, see § 105.01-3)”.

PART 107—INSPECTION AND CERTIFICATION

91. The authority citation for part 107 continues to read as follows:

Authority: 43 U.S.C. 1333; 46 U.S.C. 3306, 3307; 46 U.S.C. 3316; 49 CFR 1.45, 1.46; § 107.05 also issued under the authority of 44 U.S.C. 3507.

§ 107.115 [Amended]

92. In § 107.115(b)(1), remove the words “Two World Trade Center, 106th Floor, New York, NY 10048” and add, in their place, the words “ABS Plaza, 16855 Northchase Drive, Houston, TX 77060”.

§ 107.258 [Amended]

93. In § 107.258, in paragraph (a)(1), remove the words “Two World Trade Center, 106th Floor, New York, NY 10048” and add, in their place, the words “ABS Plaza, 16855 Northchase Drive, Houston, TX 77060”; and in paragraph (a)(2), remove the words “17 Battery Place, New York, N.Y. 10004” and add, in their place, the words “90 West Street, Suite 1612, New York, NY 10006”.

§ 107.317 [Amended]

94. In § 107.317, in paragraph (c), remove the words “Two World Trade Center, 106th Floor, New York, NY 10048” and add, in their place, the words “ABS Plaza, 16855 Northchase Drive, Houston, TX 77060”; and in paragraph (d), remove the words “17 Battery Place, New York, NY 10004” and add, in their place, the words “90 West Street, Suite 1612, New York, NY 10006”.

PART 108—DESIGN AND EQUIPMENT

95. The authority citation for part 108 continues to read as follows:

Authority: 43 U.S.C. 1333; 46 U.S.C. 3102, 3306; 49 CFR 1.46.

§ 108.427 [Amended]

96. In § 108.427(a), remove the words “ASTM F-1121” and add, in their place, the words “ASTM F 1121 (incorporated by reference, see § 105.01-3)”.

PART 109—OPERATIONS

97. The authority citation for part 109 continues to read as follows:

Authority: 43 U.S.C. 1333; 46 U.S.C. 3306, 6101, 10104; 49 CFR 1.46.

§ 109.563 [Amended]

98. In § 109.563(a)(6), add the words “(incorporated by reference, see § 109.105)” at the end of the last sentence in the paragraph.

PART 110—GENERAL PROVISIONS

99. The authority citation for part 110 continues to read as follows:

Authority: 33 U.S.C. 1509; 43 U.S.C. 1333; 46 U.S.C. 3306, 3307, 3703; E.O. 12234, 45 FR 58801, 3 CFR, 1980 Comp., p. 277; 49 CFR 1.45, 1.46; § 110.01-2 also issued under 44 U.S.C. 3507.

100. In § 110.10-1(b), in the entry for American Bureau of Shipping, revise the heading and address for “American Bureau of Shipping (ABS)”, and under the heading “National Fire Protection Association (NFPA), National Fire Protection Association, 1 Batterymarch Park, Quincy, MA 02269:”, in the entry for “NFPA 70, National Electrical Code (NEC), 1996”, remove the section numbers “§ 111.60-11(f);” and “§ 111.83-3(a);” to read as follows:

§ 110.10-1 Incorporation by reference.

* * * * *

(b) * * *

American Bureau of Shipping (ABS), American Bureau of Shipping, ABS Plaza, 16855 Northchase Drive, Houston, TX 77060:

* * * * *

§ 110.15-1 [Amended]

101. In § 110.15-1(b), in the definition of Corrosion resistant material or finish, remove the words “ASTM B-117” and add, in their place, the words “ASTM B 117 (incorporated by reference, see § 110.10-1)”.

PART 111—ELECTRICAL SYSTEMS—GENERAL ENGINEERING

102. The authority citation for part 111 continues to read as follows:

Authority: 46 U.S.C. 3306, 3703; 49 CFR 1.46.

§ 111.97-3 [Amended]

103. In § 111.97-3, remove the number “§ 163.001” and add, in its place, the letter and number “H, § 170.270”.

§ 111.97-5 [Amended]

104. In § 111.97-5(b), remove the number “§ 163.001-5(b)” and add, in its place, the number “§ 170.270(c)”.

PART 114—GENERAL PROVISIONS

105. The authority citation for part 114 continues to read as follows:

Authority: 46 U.S.C. 2103, 3306, 3307, 3703; 49 U.S.C. App. 1804; 49 CFR 1.45, 1.46. Section 114.900 also issued under 44 U.S.C. 3507.

§ 114.400 [Amended]

106. In § 114.400(b)—

(a) In the definition of Corrosion-resistant material or corrosion-resistant, in paragraph (b)(10), remove the words “ASTM B-117” and add, in their place, the words “ASTM B 117 (incorporated by reference, see § 114.600)”;

(b) In the definition of Flame spread and in the definition of Smoke developed rating, remove the words “ASTM E-84” and add, in their place, the words “ASTM E 84 (incorporated by reference, see § 114.600)”;

(c) In the definition of Flash point, remove the words “ASTM D-93” and add, in their place, the words “ASTM D 93 (incorporated by reference, see § 114.600)”; and

(d) In the definition for Specific optical density, remove the words “ASTM E-662” and add, in their place, the words “ASTM E 662 (incorporated by reference, see § 114.600)”.

107. In § 114.600(b), in the entry for American Bureau of Shipping, revise the heading and address for “American Bureau of Shipping (ABS)” to read as follows:

§ 114.600 Incorporation by reference.

* * * * *

(b) * * *

American Bureau of Shipping (ABS), ABS Plaza, 16855 Northchase Drive, Houston, TX 77060

* * * * *

PART 116—CONSTRUCTION AND ARRANGEMENT

108. The authority citation for part 116 continues to read as follows:

Authority: 46 U.S.C. 2103, 3306; E.O. 12234, 45 FR 58801, 3 CFR, 1980 Comp., p. 277; 49 CFR 1.46.

§ 116.405 [Amended]

109. In § 116.405(f), remove the words “ASTM E-84” and add, in their place, the words “ASTM E 84 (incorporated by reference, see § 114.600)”.

§ 116.422 [Amended]

110. In § 116.422(b)(2), remove the words “ASTM E-84” and add, in their place, the words “ASTM E 84 (incorporated by reference, see § 114.600)”.

§ 116.423 [Amended]

111. In § 116.423(a)(4), introductory text—

(a) Remove the words “ASTM E-84” and add, in their place, the words “ASTM E 84 (incorporated by reference, see § 114.600)”;

(b) Remove the words “ASTM E-648” and add, in their place, the words “ASTM E 648 (incorporated by reference, see § 114.600)”; and

(c) Remove the words “ASTM E-662” and add, in their place, the words “ASTM E 662 (incorporated by reference, see § 114.600)”.

§ 116.730 [Amended]

112. In § 116.730, remove the number “§ 72.20-20(c)(1)” and add, in its place, the number “§ 72.20-20(d)”.

PART 118—FIRE PROTECTION EQUIPMENT

113. The authority citation for part 118 continues to read as follows:

Authority: 46 U.S.C. 2103, 3306; E.O. 12234, 45 FR 58801, 3 CFR, 1980 Comp., p. 277; 49 CFR 1.46.

§ 118.410 [Amended]

114. In § 118.410(f)(4)(v), remove the words “The area of each discharge outlet” and add, in their place, the words “The total area of all discharge outlets”.

PART 119—ADDITIONAL EQUIPMENT

115. The authority citation for part 119 continues to read as follows:

Authority: 46 U.S.C. 2103, 3306; E.O. 12234, 45 FR 58801, 3 CFR, 1980 Comp., p. 277; 49 CFR 1.46.

116. In § 119.422, revise the section heading and paragraphs (a) and (e) introductory text to read as follows:

§ 119.422 Integral and non-integral keel cooler installations.

(a) A keel cooler installation used for engine cooling must be designed to prevent flooding.

* * * * *

(e) Shutoff valves are not required for integral keel coolers. A keel cooler is considered integral to the hull if the following conditions are satisfied:

* * * * *

PART 121—VESSEL CONTROL AND MISCELLANEOUS SYSTEMS AND EQUIPMENT

117. The authority citation for part 121 continues to read as follows:

Authority: 46 U.S.C. 2103, 3306; E.O. 12234, 45 FR 58801, 3 CFR, 1980 Comp., p. 277; 49 CFR 1.46.

118. In § 121.240, add a note at the end of the section to read as follows:

§ 121.240 Gas systems.

* * * * *

Note to § 121.240: The ABYC and NFPA standards referenced in this section require the posting of placards containing safety precautions for gas cooking systems.

PART 125—GENERAL

119. The authority citation for part 125 continues to read as follows:

Authority: 46 U.S.C. 2103, 3306, 3307; 49 U.S.C. App. 1804; 49 CFR 1.46.

120. In § 125.180(b), in the entry for American Bureau of Shipping, revise the heading and address for “American Bureau of Shipping (ABS)” to read as follows:

§ 125.180 Incorporation by reference.

* * * * *

(b) * * *

American Bureau of Shipping (ABS): ABS Plaza, 16855 Northchase Drive, Houston, TX 77060

PART 128—MARINE ENGINEERING: EQUIPMENT AND SYSTEMS

121. The authority citation for part 128 continues to read as follows:

Authority: 46 U.S.C. 3306; 49 CFR 1.46.

§ 128.310 [Amended]

122. In § 128.310(a), remove the words “ASTM D93” and add, in their place, the words “ASTM D 93 (incorporated by reference, see § 125.180)”.

123. In § 128.420, revise the section heading and, in paragraph (a), remove the word “keel-cooler” and add, in its place, the word “keel cooler” to read as follows:

§ 128.420 Keel cooler installations.

* * * * *

124. In § 128.430, revise the section heading and, in paragraphs (a) and (b), remove the word “grid” and add, in its place, the words “non-integral keel” to read as follows:

§ 128.430 Non-integral keel cooler installations.

* * * * *

PART 133—LIFESAVING EQUIPMENT

125. The authority citation for part 133 continues to read as follows:

Authority: 46 U.S.C. 3306, 3307; 49 CFR 1.46.

§ 133.135 [Amended]

126. In § 133.135(a), remove the number “160.156” and add, in its place, the number “160.056”.

PART 151—BARGES CARRYING BULK LIQUID HAZARDOUS MATERIAL CARGOES

127. The authority citation for part 151 continues to read as follows:

Authority: 33 U.S.C. 1903; 46 U.S.C. 3703; 49 CFR 1.46.

§ 151.15-3 [Amended]

128. In § 151.15-3(g)(2)(ii), remove the word “E-84” and add, in its place, the words “E 84 (incorporated by reference, see § 151.01-2)”.

PART 153—SHIPS CARRYING BULK LIQUID, LIQUEFIED GAS, OR COMPRESSED GAS HAZARDOUS MATERIALS

129. The authority citation for part 153 continues to read as follows:

Authority: 46 U.S.C. 3703; 49 CFR 1.46. Section 153.40 issued under 49 U.S.C. 5103. Sections 153.470 through 153.491, 153.1100 through 153.1132, and 153.1600 through 153.1608 also issued under 33 U.S.C. 1903(b).

§ 153.365 [Amended]

130. In § 153.365(b)(1), remove the words “ASTM F-1271” and add, in their place, the words “ASTM F 1271 (incorporated by reference, see § 153.4)”.

§ 153.940 [Amended]

131. In § 153.940(a)(3), remove the words “ASTM F-1122” and add, in their place, the words “ASTM F 1122 (incorporated by reference, see § 153.4)”.

PART 154—SAFETY STANDARDS FOR SELF-PROPELLED VESSELS CARRYING BULK LIQUEFIED GASES

132. The authority citation for part 154 continues to read as follows:

Authority: 46 U.S.C. 3703, 9101; 49 CFR 1.46.

133. In § 154.1(b), in the entry for American Bureau of Shipping, revise the heading and address for “American Bureau of Shipping” to read as follows:

§ 154.1 Incorporation by reference.

* * * * *

(b) * * *

American Bureau of Shipping (ABS), ABS Plaza, 16855 Northchase Drive, Houston, TX 77060

* * * * *

PART 160—LIFESAVING EQUIPMENT

134. The authority citation for part 160 continues to read as follows:

Authority: 46 U.S.C. 2103, 3306, 3703, and 4302; E.O. 12234, 45 FR 58801, 3 CFR, 1980 Comp., p. 277; 49 CFR 1.46.

§ 160.032-3 [Amended]

135. In § 160.032-3—

(a) In paragraph (c)(2), remove the word “A.S.T.M.” and add, in its place, the word “ASTM” and remove the word “A27” and add, in its place, the words “A 27 (incorporated by reference, see § 160.032-1)”; and

(b) In paragraph (c)(3), remove the word “A.S.T.M.” and add, in its place, the word “ASTM” and remove the word “A216” and add, in its place, the words “A 216 (incorporated by reference, see § 160.032-1)”.

§ 160.035-3 [Amended]

136. In § 160.035-3, in paragraph (b)(2), remove the word “A-36” and add, in its place, the words “A 36 (incorporated by reference, see § 160.035-1)”.

§ 160.076-25 [Amended]

137. In § 160.076-25, in paragraphs (d)(2)(i), (d)(2)(ii), and (d)(2)(iv), add the words “(incorporated by reference, see § 160.076-11)” immediately following the words “ASTM D 751”; and in paragraph (d)(2)(iii), add the words “(incorporated by reference, see § 160.076-11)” immediately following the words “ASTM D 1434”.

§ 160.077-11 [Amended]

138. In § 160.077-11(a)(7)(ii), add the words “(incorporated by reference, see § 160.077-5)” immediately following the words “ASTM B 117”.

§ 160.077-19 [Amended]

139. In § 160.077-19, in paragraphs (d)(2), (d)(3), and (d)(5), add the words “(incorporated by reference, see § 160.077-5)” immediately following the words “ASTM D 751”; and in paragraph (d)(4), add the words “(incorporated by reference, see § 160.077-5)” immediately following the words “ASTM D 1434”.

§ 160.151-21 [Amended]

140. In § 160.151-21(m), remove the words “ASTM F1014” and add, in their place, the words “ASTM F 1014 (incorporated by reference, see § 160.151-5)”.

§ 160.171-17 [Amended]

141. In § 160.171-17—

(a) In paragraph (e)(1)(iii), add the words “(incorporated by reference, see § 160.171-3)” at the end of the last sentence in the paragraph;

(b) In paragraph (k), add “(incorporated by reference, see § 160.171-3)” immediately following the words “ASTM B 117”; and

(c) In paragraph (p), remove the words “ASTM D-975” and add, in their place, the words “ASTM D 975 (incorporated by reference, see § 160.171-3)”.

§ 160.174-17 [Amended]

142. In § 160.174-17—

(a) In paragraph (f), add the words “(incorporated by reference, see § 160.174-3)” at the end of the first sentence in the paragraph;

(b) In paragraph (g), remove the words “ASTM D-975” and add, in their place, the words “ASTM D 975 (incorporated by reference, see § 160.174-3)” and add the words “(incorporated by reference, see § 160.174-3)” at the end of the second sentence in the paragraph; and

(c) In paragraph (i), add the words “(incorporated by reference, see § 160.174-3)” at the end of the first sentence in the paragraph.

§ 160.176-8 [Amended]

143. In § 160.176-8(a)(6)(ii), add the words “(incorporated by reference, see § 160.176-4)” at the end of the last sentence.

§ 160.176-13 [Amended]

144. In § 160.176-13—

(a) In paragraph(m), add the words “(incorporated by reference, see § 160.176-4)” at the end of the first sentence;

(b) In paragraph (r), add the words “(incorporated by reference, see § 160.176-4)” immediately following the words “ASTM D 975”;

(c) In paragraph (y)(1), (y)(2), and (y)(4), add the words “(incorporated by reference, see § 160.176-4)” immediately following the words “ASTM D 751”; and (d) In paragraph (y)(3), add the words “(incorporated by reference, see § 160.176-4)” immediately following the words “ASTM D 1434”.

PART 161—ELECTRICAL EQUIPMENT

145. The authority citation for part 161 continues to read as follows:

Authority: 46 U.S.C. 3306, 3703, 4302; E.O. 12234, 45 FR 58801, 3 CFR, 1980 Comp., p. 277; 49 CFR 1.46.

146. In § 161.002-1(b), in the entry for American Bureau of Shipping, revise the heading and address for “American Bureau of Shipping (ABS)” to read as follows:

§ 161.002-1 Incorporation by reference.

* * * * *

(b) * * *

American Bureau of Shipping (ABS), ABS Plaza, 16855 Northchase Drive, Houston, TX 77060.

* * * * *

§ 161.002-4 [Amended]

147. In § 161.002-4(b)(4), remove the words “ASTM B-117” and add, in their place, the words “ASTM B 117 (incorporated by reference, see § 161.002-1)”.

PART 163—CONSTRUCTION

148. The authority citation for part 163 continues to read as follows:

Authority: 46 U.S.C. 3306, 3703, 5115; E.O. 12234, 45 FR 58801, 3 CFR, 1980 Comp., p. 277; 49 CFR 1.46.

§ 163.003-29 [Removed]

149. Remove § 163.003-29.

PART 167—PUBLIC NAUTICAL SCHOOL SHIPS

150. The authority citation for part 167 continues to read as follows:

Authority: 46 U.S.C. 3306, 6101, 8105; E.O. 12234, 45 FR 58801, 3 CFR, 1980 Comp., p. 277; 49 CFR 1.46.

§ 167.15-25 [Amended]

151. In § 167.15-25(a), remove the words “Two World Trade Center-106th Floor, New York, NY, 10048” and add, in their place, the words “ABS Plaza, 16855 Northchase Drive, Houston, TX 77060”.

PART 169—SAILING SCHOOL VESSELS

152. The authority citation for part 169 continues to read as follows:

Authority: 33 U.S.C. 1321(j); 46 U.S.C. 3306, 6101; E.O. 11735, 38 FR 21243, 3 CFR, 1971-1975 Comp., p. 793; 49 CFR 1.45, 1.46; § 169.117 also issued under the authority of 44 U.S.C. 3507.

153. In § 169.608, revise the section heading, and in paragraphs (a), (b), and (c), remove the word “grid” and add, in its place, the words “non-integral keel” to read as follows:

§ 169.608 Non-integral keel cooler installations.

* * * * *

PART 170—STABILITY REQUIREMENTS FOR ALL INSPECTED VESSELS

154. The authority citation for part 170 continues to read as follows:

Authority: 3 U.S.C. 1333; 46 U.S.C. 2103, 3306, 3703; E.O. 12234, 45 FR 58801, 3 CFR, 1980 Comp., p. 277; 49 CFR 1.46.

§ 170.270 [Amended]

155. In § 170.270, in paragraphs (c)(1) and (c)(3), remove the words “ASTM F-1196” and add, in their place, the words “ASTM F 1196 (incorporated by reference, see § 170.015)”; and in paragraphs (c)(2) and (c)(3), remove the words “ASTM F-1197” and add, in their place, the words “ASTM F 1197 (incorporated by reference, see § 170.015)”.

PART 174—SPECIAL RULES PERTAINING TO SPECIFIC VESSEL TYPES

156. The authority citation for part 174 continues to read as follows:

Authority: 42 U.S.C. 9118, 9119, 9153; 43 U.S.C. 1333; 46 U.S.C. 3306, 3703, 5115; E.O. 12234, 45 FR 58801, 3 CFR, 1980 Comp., p. 277; 49 CFR 1.46.

§ 174.100 [Amended]

157. In § 174.100, in paragraphs (e)(1) and (e)(3), remove the words “ASTM F-1196” and add, in their place, the words “ASTM F 1196 (incorporated by reference, see § 174.007)”; and in paragraphs (e)(2) and (e)(3), remove the words “ASTM F-1197” and add, in their place, the words “ASTM F 1197 (incorporated by reference, see § 174.007)”.

PART 175—GENERAL PROVISIONS

158. The authority citation for part 175 continues to read as follows:

Authority: 46 U.S.C. 2103, 3205, 3306, 3703; 49 U.S.C. App. 1804; 49 CFR 1.45, 1.46; 175.900 also issued under authority of 44 U.S.C. 3507.

§ 175.400 [Amended]

159. In § 175.400, in the introductory text in the definition of Coastwise, remove the word “mote” and add, in its place, the word “more”; and in paragraph (10) in the definition of Corrosion-resistant material or corrosion-resistant, remove the words “ASTM B-117” and add, in their place, the words “ASTM B 117 (incorporated by reference, see § 175.600)”.

160. In § 175.600(b), in the entry for American Bureau of Shipping, revise the heading and address for “American Bureau of Shipping (ABS)” to read as follows:

§ 175.600 Incorporation by reference.

* * * * *

(b) * * *

American Bureau of Shipping (ABS), ABS Plaza, 16855 Northchase Drive, Houston, TX 77060

* * * * *

PART 181—FIRE PROTECTION EQUIPMENT

161. The authority citation for part 181 continues to read as follows:

Authority: 46 U.S.C. 2103, 3306; E.O. 12234, 45 FR 58801, 3 CFR, 1980 Comp., p. 277; 49 CFR 1.46.

§ 181.410 [Amended]

162. In § 181.410(f)(4)(v), remove the words “The area of each discharge outlet” and add, in their place, the words “The total area of all discharge outlets”.

PART 182—MACHINERY INSTALLATION

163. The authority citation for part 182 continues to read as follows:

Authority: 46 U.S.C. 3306; E.O. 12234, 45 FR 58801, 3 CFR, 1980 Comp., p. 277; 49 CFR 1.46.

164. In § 182.422, revise the section heading and paragraphs (a) and (e) introductory text to read as follows:

§ 182.422 Integral and non-integral keel cooler installations.

(a) A keel cooler installation used for engine cooling must be designed to prevent flooding.

* * * * *

(e) Shutoff valves are not required for integral keel coolers. A keel cooler is considered integral to the hull if the following conditions are satisfied:

* * * * *

PART 184—VESSEL CONTROL AND MISCELLANEOUS SYSTEMS AND EQUIPMENT

165. The authority citation for part 184 continues to read as follows:

Authority: 46 U.S.C. 2103, 3306; E.O. 12234, 45 FR 58801, 3 CFR, 1980 Comp., p. 277; 49 CFR 1.46.

166. In § 184.240, add a note at the end of the section to read as follows:

§ 184.240 Gas systems.

* * * * *

Note to § 184.240: The ABYC and NFPA standards referenced in this section require the posting of placards containing safety precautions for gas cooking systems.

PART 188—GENERAL PROVISIONS

167. The authority citation for part 188 continues to read as follows:

Authority: 46 U.S.C. 2113, 3306; 49 U.S.C. App. 5103, 5106; E.O. 12234, 45 FR 58801, 3 CFR, 1980 Comp., p. 277; 49 CFR 1.46.

§ 188.35-5 [Amended]

168. In § 188.35-5(a), remove the words “Two World Trade Center, 106th Floor, New York, NY, 10048” and add, in their place, the words “ABS Plaza, 16855 Northchase Drive, Houston, TX 77060”.

PART 189—INSPECTION AND CERTIFICATION

169. The authority citation for part 189 continues to read as follows:

Authority: 33 U.S.C. 1321(j); 46 U.S.C. 2113, 3205, 3306; E.O. 12234, 45 FR 58801, 3 CFR, 1980 Comp., p. 277; E.O. 12777, 56 FR 54757, 3 CFR, 1991 Comp., p. 351; 49 CFR 1.46.

§ 189.60-45 [Amended]

170. In § 189.60-45(a), remove the words “Two World Trade Center, 106th Floor, New York, NY, 10048” and add, in their place, the words “ABS Plaza, 16855 Northchase Drive, Houston, TX 77060”.

PART 193—FIRE PROTECTION EQUIPMENT

171. The authority citation for part 193 continues to read as follows:

Authority: 46 U.S.C. 2213, 3102, 3306; E.O. 12234, 45 FR 58801, 3 CFR, 1980 Comp., p. 277; 49 CFR 1.46.

§ 193.10-10 [Amended]

172. In § 193.10-10(c), remove the words “ASTM F-1121” and add, in their place, the words “ASTM F 1121 (incorporated by reference, see § 193.01-3)”.

PART 199—LIFESAVING SYSTEMS FOR CERTAIN INSPECTED VESSELS

173. The authority citation for part 199 continues to read as follows:

Authority: 46 U.S.C. 3306, 3703; 49 CFR 1.46.

§ 199.175 [Amended]

174. In § 199.175, in paragraph (b)(12), remove the word “F1014” and add, in its place, the words “F 1014 (incorporated by reference, see § 199.05)”; and in paragraph (b)(28), remove the word “F1003” and add, in its place, the words “F 1003 (incorporated by reference, see § 199.05)”.

§ 199.610 [Amended]

175. In § 199.610(c), in Table 199.610(c), under “Oceans”, remove the numbers “(2, 3)” and add, in their place, the numbers “(2 and 3)”.

Dated: September 12, 2000.
Joseph J. Angelo,
Director of Standards, Marine Safety and Environmental Protection.

[FR Doc. 00-24598 Filed 9-28-00; 8:45 am]

BILLING CODE 4910-15-U